DEPARTMENT OF TRANSPORTATION

Federal Aviation Administration

Notice of Intent To Request Approval From the Office of Management and Budget of a New Information Collection Activity, Request for Comments; National Flight Attendant Duty/Rest/Fatigue Survey

AGENCY: Federal Aviation Administration (FAA), DOT.

ACTION: Notice and request for comments.

SUMMARY: The FAA invites public comments about our intention to request the Office of Management and Budget (OMB) to approve a new information collection. This project involves the random and representative sampling of Flight Attendants currently employed by U.S. air carriers. The goal of this effort is to identify the type of fatigue that flight attendants experience, the frequency with which they experience fatigue, and the consequences fatigue may have on the safety of U.S. air carriers.

DATES: Please submit comments by May 19, 2008.

FOR FURTHER INFORMATION CONTACT: Carla Mauney on (202) 267-9895, or by e-mail at: Carla.Mauney@faa.gov.

SUPPLEMENTARY INFORMATION:

Federal Aviation Administration (FAA)

Title: National Flight Attendant Duty/Rest/Fatigue Survey.

Type of Request: New collection.

OMB Control Number: 2120-XXXX.

Form(s): There are no FAA forms associated with this collection.

Affected Public: A total of 12,000 respondents.

Frequency: The information is collected annually.

Estimated Average Burden per Response: Approximately 1 hour per response.

Estimated Annual Burden Hours: An estimated 12,000 hours annually.

Abstract: This project involves the random and representative sampling of Flight Attendants currently employed by U.S. air carriers. The goal of this effort is to identify the type of fatigue that flight attendants experience, the frequency with which they experience fatigue, and the consequences fatigue may have on the safety of U.S. air carriers. The results obtained from this survey are intended to provide information to FAA policy makers regarding flight attendant rest and duty time.

ADDRESSES: Send comments to the FAA at the following address: Ms. Carla Mauney, Room 712, Federal Aviation Administration, IT Enterprises Business Services Division, AES-200, 800 Independence Ave., SW., Washington, DC 20591.

Comments Are Invited On: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 13, 2008.
Carla Mauney,
FAA Information Collection Clearance Officer, IT Enterprises Business Services Division, AES-200.

[FR Doc. E8-5576 Filed 3-19-08; 8:45 am]

BILLING CODE 4910-13-M